DEPARTMENT OF DEFENSE

Office of Secretary of Defense

[DOD-2007-OS-0095]

Privacy Act of 1974; System of Records

AGENCY: DoD, Defense Intelligence Agency.

ACTION: Notice To Add a System of Records.

SUMMARY: The Defense Intelligence Agency is proposing to add a system of records to its existing inventory of records systems subject to the Privacy Act of 1974, (5 U.S.C. 552a), as amended.

DATES: The proposed action will be effective on October 4, 2007 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the address above.

The proposed system report, as required by 5 U.S.C. 552a(r) of the Privacy Act of 1974, as amended, was submitted on August 27, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 28, 2007.
L.M. Bynum,
Alternate OSD Federal Register Liaison Officer, Department of Defense.

LDIA 07-0002

System Name:

Special Program Information System.

System Location:

Defense Intelligence Agency, 200 MacDill Boulevard, Washington DC 20340.

Categories of Individuals Covered by the System:

Defense Intelligence Agency personnel, military personnel, and contractor employees.

Categories of Records in the System:

Individuals full name, Social Security Number (SSN), employee's type (civilian, military or contractor), organization name, and type of clearance level.

Authority for Maintenance of the System:

Executive Order 12958, Classified National Security Information; DoD Instruction 5205.07, Special Access Program (SAP) Policy; DoD Instruction 5205.11, Management, Administration, and Oversight of DoD Special Access Programs (SAPs); DoD 5200.1-R, Information Security Program; DIA Manual 56-1, 31 Special Program Management; and E.O. 9397 (SSN).

Purpose(s):

To maintain a database of Defense Intelligence Agency personnel granted access to specific information within the Intelligence Community.

Routine Uses of Records maintained in the system, including categories of users:

In addition to those disclosures generally permitted under 5 U.S.C. 552a(b) of the Privacy Act, these records or information contained therein may specifically be disclosed outside the Department of Defense as a routine use pursuant to 5 U.S.C. 552a(b)(3) as follows:

The ‘Blanket Routine Uses’ set forth at the beginning of the DIA's compilation of systems of records notices apply to this system.

Policies and Practices for Storing, Retrieving, Accessing, Retaining, and Disposing of Records in the System:

Storage:

Paper records in file folders and electronic storage media.

Retrievability:

Individual's name and Social Security Number (SSN).

Safeguards:

Physical entry is restricted by the use of guards, locks, and administrative procedures. Automated records are password controlled with system-generated, forced password-change protocols or equipped with “Smart Card” technology that requires the insertion of an embedded identification card and entry of a PIN.

Retention and Disposal:

Records are maintained as long as the agency determines that they are no longer needed for administrative, legal, audit, or other operational purposes.

System Manager(s) and address:

Chief, Program Development Branch, Office for Security Operations and Anti-Terrorism, Defense Intelligence Agency, 200 MacDill Blvd., Washington, DC 20340-5100.

Notification Procedure:

Individuals seeking to determine whether information about themselves is contained in this system of records should address written inquiries to the DIA Privacy Office (DAN-1A), Defense Intelligence Agency, 200 MacDill Blvd., Washington, DC 20340-5100. Requests should contain individual's full name, current address, telephone number, and Social Security Number (SSN).

Record Access Procedures:

Individuals seeking access to information about themselves contained in this system of records, should address written inquiries to the DIA Privacy Official, Defense Intelligence Agency (DAN-1A), 200 MacDill Blvd., Washington, DC 20340-5100.

Requests should contain individual's full name, current address, telephone number, and Social Security Number (SSN).

Contesting Record Procedures:

DIA's rules for accessing records, for contesting contents and appealing initial agency determinations are published in DIA Instruction 5400.001, Defense Intelligence Agency Privacy Program, and DIA Instruction 5400.002, Freedom of Information Act.

Record Source Categories:

By the individuals, from other databases, or from external sources.

Exemptions Claimed for the System:

None.

[FR Doc. E7-17451 Filed 8-31-07; 8:45 am]

BILLING CODE 5001-06-P